DEPARTMENT OF AGRICULTURE

Forest Service

Final Record of Decision for the Revised Land Management Plan for the Nez Perce-Clearwater National Forests

AGENCY: Forest Service, Agriculture (USDA).

ACTION: Notice of approval of the Revised Land Management Plan for the Nez Perce-Clearwater National Forests.

SUMMARY: Heath Perrine, Acting Forest Supervisor for the Nez Perce-Clearwater National Forests, Northern Region, signed the final Record of Decision (ROD) for the Revised Land Management Plan (LMP) for the Nez Perce-Clearwater National Forests. The final ROD documents the rationale for approving the Revised LMP and is consistent with the Reviewing Officers' responses to objections and instructions.

DATES: The Revised LMP for the Nez Perce-Clearwater National Forests will become effective 30 days after the publication of this notice of approval in the Federal Register (36 CFR 219.17(a)(1)).

ADDRESSES: To view the final ROD, Final Environmental Impact Statement (FEIS), Revised LMP, and other related documents, please visit the Nez Perce-Clearwater National Forests website at: https://www.fs.usda.gov/detail/nezperceclearwater/landmanagement/planning/?cid=FSEPRD1206684. The Forest Service will also publish a legal notice of approval in the newspaper of record, Lewiston Morning Tribune, and post a copy of this legal notice on the Nez Perce-Clearwater National Forests' website listed above.

FOR FURTHER INFORMATION CONTACT: Sara Daugherty, Forest Planner, Nez Perce-Clearwater National Forests, by email at sara.daugherty@usda.gov or by phone at (208) 963-4206.

Individuals who use telecommunication devices for the deaf (TDD) may call the Federal Information Relay Service (FIRS) at (800) 877-8339, 24 hours a day, every day of the year, including holidays.

SUPPLEMENTARY INFORMATION: The Nez Perce-Clearwater National Forests in the Northern Region spans six ranger districts and covers approximately four million acres across seven counties in north central Idaho, stretching from the Bitterroot Mountains on the Idaho and Montana border to the east, Salmon River to the south, Hells Canyon to the west, and the Palouse Prairie and North Fork Clearwater River basin to the north. The Nez Perce-Clearwater National Forests range in elevation from 1,000 to over 8,900 feet and support diverse ecosystems and uses. The Nez Perce-Clearwater National Forests contain habitats essential for a wide variety of species and serves critical headwaters of the Clearwater River. The Nez Perce-Clearwater National Forests also provide opportunities for recreation, timber harvesting, livestock grazing, and mineral development that contribute to the quality of life and economies of the surrounding communities.

The Revised LMP was shaped by the best available scientific information, current laws, and public, governmental, and tribal input. It was developed pursuant to the 2012 Forest Service Planning Rule (36 CFR 219) and will replace the current Forest Plans that were released in 1987. The Revised LMP includes desired conditions, objectives, standards, guidelines, management approaches, management area allocations, and land suitability for project and activity decision-making, which will guide resource management activities on the Nez Perce-Clearwater National Forests. It also includes wilderness recommendations and identifies eligible and suitable wild and scenic river segments.

The Nez Perce-Clearwater National Forests initiated LMP revision in 2013 and engaged with the public and tribal, federal, state, and local governments. The Forests consulted with the Nez Perce Tribe during the planning process, ensuring tribal-related plan direction accurately reflects the Nez Perce-Clearwater National Forests' tribal trust relationship and ensures that the Treaty with the Nez Perce of 1855 is honored. Between 2012 and 2020, the Nez Perce-Clearwater National Forests conducted 26 formal public comment and informal public feedback opportunities. The Forests received and analyzed more than 33,000 public comments. Hundreds of people attended 45 in-person and virtual public meetings, open houses, and webinars.

A 90-day public comment period on the draft LMP and associated draft EIS was initiated on December 20, 2019, and subsequently extended 30 days. The Forests used these comments to inform and the preferred alternative for the FEIS and Revised Plan. A draft ROD, Revised LMP, and FEIS were released on November 28, 2023, initiating a 60-day objection filing period that closed January 29, 2024. The Forest Service received approximately 275 eligible objections to the draft ROD and 5 objections filed by 13 individuals and organizations to the list of species of conservation concern. The Reviewing Officers held objection resolution meetings with objectors and interested persons in May 2024. Based on these meetings and a review of the objections, the Reviewing Officer for the list of species of conservation concern issued a written response to objectors on September 26, 2024. The Reviewing Officer for the LMP issued a written response to objectors on September 27, 2024. The instructions from the Reviewing Officers were addressed in the ROD, Revised LMP, and FEIS.

Cooperating Agencies

The following entities have participated in the planning process as cooperating agencies: State of Idaho (Office of Species Conservation), Clearwater County, and Idaho County.

Government to Government Consulting Agency

The Nez Perce-Clearwater National Forests consulted with the Nez Perce Tribe throughout the planning process of the revised Plan.

Responsible Official

The Responsible Official for approving the Revised LMP is Heath Perrine, Acting Forest Supervisor, Nez Perce-Clearwater National Forests. The Responsible Official for approving the list of species of conservation concern is Leanne Marten, Regional Forester, Northern Region.

Jacqueline Emanuel,
Associate Deputy Chief, National Forest System.

[FR Doc. 2024-30342 Filed 1-8-25; 8:45 am]

BILLING CODE 3411-15-P